DEPARTMENT OF HEALTH AND HUMAN SERVICES

National Institutes of Health

National Institutes of Environmental Health Sciences; Amended Notice of Meeting

Notice is hereby given of a change in the meeting of the National Institute of Environmental Health Sciences Special Emphasis Panel, October 1, 2001, 7 PM to October 3, 2001, 12 PM, The Charles Hotel, One Bennett Street, Cambridge, MA, 02138 which was published in the Federal Register on September 7, 2001, FR 66: 46806.

The date of this meeting has been changed to November 5-7, 2001. The times and place of the meeting will remain the same. The meeting is closed to the public.

Dated: October 4, 2001.
LaVerne Y. Stringfield,
Director, Office of Federal Advisory Committee Policy.

[FR Doc. 01-25826 Filed 10-12-01; 8:45 am]

BILLING CODE 4140-01-M